DEPARTMENT OF HOMELAND SECURITY

Coast Guard

33 CFR Part 117

[Docket No. USCG-2011-1171]

Drawbridge Operation Regulation; Northeast Cape Fear River, Wilmington, NC

AGENCY: Coast Guard, DHS.

ACTION: Notice of temporary deviation from regulations.

SUMMARY: The Commander, Fifth Coast Guard District, has issued a temporary deviation from the regulations governing the operation of the Isabel S. Holmes Bridge across the Northeast Cape Fear River, mile 1.0, at Wilmington, NC. The deviation restricts the operation of the draw span to accommodate the 100 year Anniversary of the Girl Scout Program Ceremonial walk. The deviation allows the bridge to remain in the closed position to vessels.

DATES: This deviation is effective from 10 a.m. until noon on March 10, 2012.

ADDRESSES: Documents mentioned in this preamble as being available in the docket USCG-2011-1171 and are available online by going to http://www.regulations.gov, inserting USCG-2011-1171 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Jim Rousseau, Bridge Management Specialist, Fifth Coast Guard District, telephone (757) 398-6557. Email James.L.Rousseau2@uscg.mil. If you have questions on reviewing the docket, call Renee V. Wright, Program Manager, Docket Operations, (202) 366-9826.

SUPPLEMENTARY INFORMATION: The Event Director for the New Hanover County Girl Scouts, with approval from the North Carolina Department of Transportation, owner of the drawbridge, has requested a temporary deviation from the current operating schedule to accommodate the 100 year Anniversary of the Girl Scout Program Ceremonial walk.

The Isabel S. Holmes Bridge operating regulations are set out in 33 CFR 117.829(a). However on January 10, 2012 (77 FR 1406) the Coast Guard granted a deviation from 33 CFR 117.829(a) to facilitate structural repair on the bridge. Under the current operating deviation schedule, the drawbridge will be closed to navigation from 7 a.m. on January 16, 2012 until and including 11 p.m. on April 30, 2012; except that vessel openings will be provided if at least three hours advance notice is given to the bridge tender at (910) 251-5774 or via marine radio on channel 13 VHF. The Isabel S. Holmes Bridge across the Northeast Cape Fear River, mile 1.0,a bascule lift Bridge, in Wilmington, NC, has a vertical clearance in the closed position of 40 feet, above mean high water.

Under this temporary deviation, the drawbridge will be allowed to remain in the closed-to-navigation position from 10 a.m. to noon on Saturday, March 10, 2012 to accommodate the 100 year Anniversary of the Girl Scout Program Ceremonial walk.

Vessels able to pass under the closed span may transit under the drawbridge while it is in the closed position. Mariners are advised to proceed with caution. The Coast Guard will inform users of the waterway through our local and broadcast Notices to Mariners of the limited operating schedule for the drawbridge so that vessels can arrange their transits to minimize any impacts caused by the temporary deviation. There are no alternate routes for vessels and the bridge will be able to open in the event of an emergency.

In accordance with 33 CFR 117.35(e), when applicable the draw must return to its regular operating schedule immediately at the end of the designated time period. This deviation from the operating regulations is authorized under 33 CFR 117.35.

Dated: January 13, 2012.
Waverly W. Gregory, Jr.,
Bridge Program Manager, Fifth Coast Guard District.

[FR Doc. 2012-2284 Filed 2-1-12; 8:45 am]

BILLING CODE 9110-04-P